DEPARTMENT OF LABOR

Occupational Safety and Health Administration

[Docket No. OSHA-2009-0025]

Underwriters Laboratories Inc.: Grant of Expansion of Recognition

AGENCY: Occupational Safety and Health Administration (OSHA), Labor.

ACTION: Notice.

SUMMARY: In this notice, OSHA announces its final decision to expand the scope of recognition for Underwriters Laboratories Inc., as a Nationally Recognized Testing Laboratory (NRTL). Additionally, OSHA announces its final decision to incorporate two new test standards into the NRTL Program's list of appropriate test standards.

DATES: The expansion of the scope of recognition becomes effective on September 16, 2014.

FOR FURTHER INFORMATION CONTACT: Information regarding this notice is available from the following sources:

Press inquiries: Contact Mr. Frank Meilinger, Director, OSHA Office of Communications, U.S. Department of Labor, 200 Constitution Avenue NW., Room N-3647, Washington, DC 20210; telephone: (202) 693-1999; email: Meilinger.francis2@dol.gov.

General and technical information: Contact Mr. David Johnson, Director, Office of Technical Programs and Coordination Activities, Directorate of Technical Support and Emergency Management, Occupational Safety and Health Administration, U.S. Department of Labor, 200 Constitution Avenue NW., Room N-3655, Washington, DC 20210; telephone: (202) 693-2110; email: johnson.david.w@dol.gov. OSHA's Web page includes information about the NRTL Program (see http://www.osha.gov/dts/otpca/nrtl/index.html).

SUPPLEMENTARY INFORMATION:

I. Notice of Final Decision

OSHA hereby gives notice of the expansion of the scope of recognition of Underwriters Laboratories Inc. (UL), as an NRTL. UL's expansion covers the addition of 21 test standards to its scope of recognition.

OSHA recognition of an NRTL signifies that the organization meets the requirements specified by 29 CFR 1910.7. Recognition is an acknowledgment that the organization can perform independent safety testing and certification of the specific products covered within its scope of recognition, and is not a delegation or grant of government authority. As a result of recognition, employers may use products properly approved by the NRTL to meet OSHA standards that require testing and certification of the products.

The Agency processes applications by an NRTL for initial recognition, or for expansion or renewal of this recognition, following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. OSHA maintains an informational Web page for each NRTL that details its scope of recognition. These pages are available from the Agency's Web site at http://www.osha.gov/dts/otpca/nrtl/index.html.

UL submitted an application, dated March 26, 2013 (OSHA-2009-0025-0008), to expand its recognition to include multiple additional test standards. OSHA staff performed a comparability analysis and reviewed other pertinent information. OSHA did not perform any on-site reviews in relation to this application.

OSHA published the preliminary notice announcing UL's expansion application in the Federal Register on April 14, 2014 (79 FR 20920). The Agency requested comments by April 29, 2014, and received one comment (OSHA-2009-0025-0010) in response to this notice addressing UL's scope of recognition expansion request. OSHA received no comments on its proposal to add UL 66 and UL 8750 to the NRTL Program's list of appropriate test standards.

To obtain or review copies of the publicly available information in UL's application, including pertinent documents (e.g., exhibits) and all submitted comments, contact the Docket Office, Occupational Safety and Health Administration, U.S. Department of Labor, 200 Constitution Avenue NW., Room N-2625, Washington, DC 20210. These materials also are available online at http://www.regulations.gov under Docket No. OSHA-2009-0025.

The sole commenter (OSHA-2009-0025-0010) asserts that UL charges different prices for the testing of identical products based solely on an applicant's location and, consequently, is not in compliance with ISO/IEC Guide 65, Clause 4.4 addressing non-discrimination.¹ The comment, however, does not provide any detail that demonstrates that the referenced products were “exactly the same,” nor was there any information regarding other factors that may have contributed to the difference in price. While OSHA believes that competition among the NRTLs helps to control costs for testing and certification services, there are many factors that affect the price for NRTL certification, including the volume of products submitted for certification by a particular applicant (volume discounts), the location and cost of factory surveillance, and the use of certified components in the product, to name a few. Any of these, or other, factors could provide legitimate justification for differences in price for similar or “exactly the same” products submitted for certification.

¹ While the commenter references ISO/IEC Guide 65, Clause 4.4.1, OSHA believes that the correct reference is ISO/IEC Guide 65, Clause 4.1.1.

The comment further asserts that UL is “using its monopoly status on components certification” to charge manufacturers higher fees. OSHA regulations require certain types of products used in the workplace to be “acceptable” to OSHA. For most products, the NRTL must test and certify the product to the appropriate test standard. The NRTL Program's product-approval requirements apply only to end products. The NRTL Program requirements do not include the certification of components. While some NRTLs, including UL, developed a component-certification program to simplify the process of testing and certifying an end product, component certifications are not part of the NRTL Program. With 15 organizations recognized as NRTLs, manufacturers are free to choose an NRTL with an appropriate scope of recognition that best suits their business needs.

II. Final Decision and Order

OSHA staff conducted a careful review and analysis of assertions made in the comment received regarding UL's request to expand its scope of recognition. OSHA determined that the assertions in the comment are unsupported and without merit. OSHA staff also examined UL's expansion application, its capability to meet the requirements of the test standards, and other pertinent information. Based on its review of this evidence, OSHA finds that UL meets the requirements of 29 CFR 1910.7 for expansion of its recognition, subject to the limitation and conditions listed below. OSHA, therefore, is proceeding with this final notice to grant expansion of UL's scope of recognition. OSHA limits the expansion of UL's recognition to testing and certification of products for demonstration of conformance to the test standards listed in Table 1 below.

Table 1—List of Appropriate Test Standards for Inclusion in UL's NRTL Scope of Recognition
Test standard | Test standard title
ANSI/UL 2208 | Solvent Distillation Units.
IEEE C37.20.7 | IEEE Guide for Testing Metal‐Enclosed Switchgear Rated Up to 38 kV for Internal Arcing Faults.
ANSI/UL 8750 | Light Emitting Diode (LED) Equipment for Use in Lighting Products.
ANSI/UL 448B | Residential Fire Pumps Intended for One‐ and Two‐Family Dwellings and Manufactured Homes.
ANSI/UL 448C | Stationary, Rotary‐Type, Positive‐Displacement Pumps for Fire Protection Service.
ANSI/UL 62368-1 | Audio/Video, Information and Communication Technology Equipment—Part 1: Safety Requirements.
ANSI/UL 50E | Enclosures for Electrical Equipment, Environmental Considerations.
ANSI/UL 61800-5-1 | Adjustable Speed Electrical Power Drive Systems—Part 5-1: Safety Requirements—Electrical, Thermal and Energy.
ANSI/UL 66 | Fixture Wire.
ANSI/UL 2239 | Hardware for the Support of Conduit, Tubing, and Cable.
ANSI/UL 62275 | Cable Management Systems—Cable Ties for Electrical Installations.
ANSI/UL 60335-2-40 | Household and Similar Electrical Appliances, Part 2: Particular Requirements for Electrical Heat Pumps, Air‐Conditioners and Dehumidifiers.
ANSI/UL 2560 | Emergency Call Systems for Assisted Living and Independent Living Facilities.
ANSI/UL 2572 | Mass Notification Systems.
ANSI/UL 2577 | Suspended Ceiling Grid Low Voltage Systems and Equipment.
ANSI/UL 8752 | Organic Light Emitting Diode (OLED) Panels.
ANSI/UL 60745-2-13 | Hand‐Held Motor‐Operated Electric Tools—Safety—Part 2-13: Particular Requirements For Chain Saws.
ANSI/UL 60745-2-15 | Hand‐Held Motor‐Operated Electric Tools—Safety—Part 2-15: Particular Requirements for Hedge Trimmers.
ANSI/UL 2586 | Hose Nozzle Valves.
ANSI/UL 2238 | Cable Assemblies and Fittings for Industrial Control and Signal Distribution.
UL 6142 | Small Wind Turbine Systems.

OSHA's recognition of any NRTL for a particular test standard is limited to equipment or materials for which OSHA standards require third-party testing and certification before using them in the workplace. Consequently, if a test standard also covers any products for which OSHA does not require such testing and certification, an NRTL's scope of recognition does not include these products.

The American National Standards Institute (ANSI) may approve the test standards listed above as American National Standards. However, for convenience, OSHA may use the designation of the standards-developing organization for the standard as opposed to the ANSI designation. Under the NRTL Program's policy (see OSHA Instruction CPL 1-0.3, Appendix C, paragraph XIV), any NRTL recognized for a particular test standard may use either the proprietary version of the test standard or the ANSI version of that standard. Contact ANSI to determine whether a test standard is currently ANSI-approved.

A. Conditions

In addition to those conditions already required by 29 CFR 1910.7, UL must abide by the following conditions of the recognition:

1. UL must inform OSHA as soon as possible, in writing, of any change of ownership, facilities, or key personnel, and of any major change in its operations as an NRTL, and provide details of the change(s);

2. UL must meet all the terms of its recognition and comply with all OSHA policies pertaining to this recognition; and

3. UL must continue to meet the requirements for recognition, including all previously published conditions on UL's scope of recognition, in all areas for which it has recognition.

Pursuant to the authority in 29 CFR 1910.7, OSHA hereby expands the scope of recognition of UL, subject to the limitation and conditions specified above. OSHA also is making a final determination that the UL 66 and UL 8750 test standards are appropriate test standards, and, therefore, is adding these test standards to the NRTL Program's list of appropriate test standards.

III. Authority and Signature

David Michaels, Ph.D., MPH, Assistant Secretary of Labor for Occupational Safety and Health, 200 Constitution Avenue NW., Washington, DC 20210, authorized the preparation of this notice. Accordingly, the Agency is issuing this notice pursuant to 29 U.S.C. 657(g)(2), Secretary of Labor's Order No. 1-2012 (77 FR 3912, Jan. 25, 2012), and 29 CFR 1910.7.

Signed at Washington, DC, on September 10, 2014.
David Michaels,
Assistant Secretary of Labor for Occupational Safety and Health.

[FR Doc. 2014-21937 Filed 9-15-14; 8:45 am]

BILLING CODE 4510-26-P